ENVIRONMENTAL PROTECTION AGENCY

[FRL-6708-3]

Investigator-Initiated Grants: Request for Applications

AGENCY: Environmental Protection Agency (EPA).

ACTION: Notice of request for applications.

SUMMARY: This notice provides information on the availability of fiscal year 2000 investigator-initiated grants program announcements, in which the areas of research interest, eligibility and submission requirements, evaluation criteria, and implementation schedules are set forth. Grants will be competitively awarded following peer review.

DATES: Receipt dates vary depending on the specific research area within the solicitation and are listed below.

FOR FURTHER INFORMATION CONTACT: U.S. Environmental Protection Agency, National Center for Environmental Research (8703R), 1200 Pennsylvania Avenue, N.W., Washington DC 20460, telephone (800) 490-9194. The complete announcement can be accessed on the Internet from the EPA home page: http://www.epa.gov/ncerqa under “announcements.”

SUPPLEMENTARY INFORMATION: In its Requests for Applications (RFA) the U.S. Environmental Protection Agency (EPA) invites research grant applications in the following areas of special interest to its mission: (1) Corporate Environmental Performance and the Effectiveness of Government Interventions; (2) Complex Chemical Mixtures (joint with NIOSH and NIEHS); and (3) Drinking Water. Applications must be received as follows: July 24, 2000, for topic (1); July 10, 2000, for topic (2); and July 31, 2000, for topic (3).

The RFAs provide relevant background information, summarize EPA's interest in the topic areas, and describe the application and review process.

Contact persons for the Corporate Environmental Performance RFA are Matthew Clark (clark.matthew@epa.gov), telephone 202-564-6842, and Robert Menzer (menzer.robert@epa.gov), telephone 202-564-6849. Contact persons for the Complex Chemical Mixtures RFA are Chris Saint (saint.chris@epa.gov), telephone 202-564-6909, Thomas Veirs (veirs.thomas@epa.gov), telephone 202-564-6831, Michael Galvin (mtg3@cdc.gov), telephone 404-639-1533, and Claudia Thompson (thompso1@niehs.nih.gov), telephone 919-541-4638. Contact person for the Drinking Water RFA is Cynthia Nolt-Helms (nolt-helms.cynthia@epa.gov), telephone 202-564-6763.

Dated: May 19, 2000.
Peter Durant,
Acting Assistant Administrator for Research and Development.

[FR Doc. 00-13843 Filed 6-1-00; 8:45 am]

BILLING CODE 6560-50-U